DEPARTMENT OF HEALTH AND HUMAN SERVICES

Centers for Disease Control and Prevention

Board of Scientific Counselors, National Center for Public Health Informatics (BSC, NCPHI)

In accordance with section 10(a)(2) of the Federal Advisory Committee Act (Pub. L. 92-463), the CDC announces the following meeting of the aforementioned committee:

Time and Date:12 p.m.-2 p.m., March 20, 2009.

Place: The teleconference call will originate at the CDC; to participate in the teleconference, please dial 1 (866) 713-5586 and enter conference code 4624038.

Status: Open to the public; teleconference access limited only by availability of telephone ports.

Purpose: The board will meet to conduct BSC, NCPHI business.

Matters To Be Discussed: To discuss BSC, NCPHI-related matters including: NCPHI portion of the stimulus package; update on BioSense; re-formation of three working groups; and planning for the May 26, 2009 meeting in Orlando, Florida.

Agenda items are subject to change as priorities dictate.

For Further Information Contact: Dr. Scott McNabb, National Center for Public Health Informatics, CDC, 1600 Clifton Road, NE., (E-78), Atlanta, Georgia 30333, Telephone (404) 498-6427, Fax (404) 498-6235.

The Director, Management Analysis and Services Office has been delegated the authority to sign Federal Register notices pertaining to announcements of meetings and other committee management activities for both the CDC and the Agency for Toxic Substances and Disease Registry.

Dated: February 13, 2009.
Elaine L. Baker,
Director, Management Analysis and Services Office, Centers for Disease Control and Prevention (CDC).

[FR Doc. E9-4001 Filed 2-24-09; 8:45 am]

BILLING CODE 4163-18-P